Presidential Determination No. 2024-06 of June 28, 2024

Presidential Determination and Certification With Respect to the Child Soldiers Prevention Act of 2008

Memorandum for the Secretary of State

Pursuant to section 404 of the Child Soldiers Prevention Act of 2008 (22 U.S.C. 2370c-1) (CSPA), I hereby:

Determine that it is in the national interest of the United States to waive the application of the prohibition in section 404(a) of the CSPA with respect to Turkey; and

Certify that the Government of Turkey is taking effective and continuing steps to address the problem of child soldiers.

Accordingly, I hereby waive such application of section 404(a) of the CSPA.

You are authorized and directed to submit this determination and certification to the Congress, along with the Memorandum of Justification, and to publish this determination and certification in the Federal Register.

THE WHITE HOUSE,

Washington, June 28, 2024

[FR Doc. 2024-15485

Filed 7-11-24; 8:45 am]

Billing code 4710-10-P